DEPARTMENT OF COMMERCE

International Trade Administration

Application(s) for Duty-Free Entry of Scientific Instruments

Pursuant to Section 6(c) of the Educational, Scientific and Cultural Materials Importation Act of 1966 (Pub. L. 89-651, as amended by Pub. L. 106-36; 80 Stat. 897; 15 CFR part 301), we invite comments on the question of whether instruments of equivalent scientific value, for the purposes for which the instruments shown below are intended to be used, are being manufactured in the United States.

Comments must comply with 15 CFR 301.5(a)(3) and (4) of the regulations and be postmarked on or before July 6, 2010. Address written comments to Statutory Import Programs Staff, Room 3720, U.S. Department of Commerce, Washington, D.C. 20230. Applications may be examined between 8:30 A.M. and 5:00 P.M. at the U.S. Department of Commerce in Room 3720.

Docket Number: 10-019. Applicant: Saint Louis University Department of Chemistry, 3501 Laclede Ave., St. Louis, MO 63103. Instrument: Electron Microscope. Manufacturer: FEI Co., Czech Republic. Intended Use: This instrument will be used for the study of nanomaterial and microchip structure. Justification for Duty-Free Entry: There are no domestic manufactures of this instrument. Application accepted by Commissioner of Customs: May 26, 2010.

Docket Number: 10-021. Applicant: South Dakota School of Mines and Technology, 501 E. Saint Joseph St. Rapid City, SD 57701. Instrument: Electron Microscope. Manufacturer: JEOL, Japan. Intended Use: This instrument will be used for the understanding and materials development of photovoltaic power conversion for terrestrial and space applications, enhanced thermal conductivity (lubricants), thermally stable, light-weight materials for space applications, catalytic nanomaterials for energy storage and conversion, such as fuel cells. Justification for Duty-Free Entry: There are no domestic manufactures of this instrument. Application accepted by Commissioner of Customs: May 18, 2010.

Docket Number: 10-024. Applicant: National Institutes of Health, National Institute of Diabetes and Digestive and Kidney Diseases, Laboratory of Cell Biochemistry and Biology, 8 Center Drive, Rm 1A03 Bethesda, MD 20892-0851. Instrument: Electron Microscope. Manufacturer: FEI Co., the Netherlands. Intended Use: This instrument will be used to examine purified proteins, including the protein dynamin, using negative stain nad cryo-electron microscopy methods. Justification for Duty-Free Entry: There are no domestic manufactures of this instrument. Application accepted by Commissioner of Customs: May 19, 2010.

Docket Number: 10-026. Applicant: National institutes of Health, National Institute of Diabetes and Digestive and Kidney Diseases, Laboratory of Cell Biochemistry and Biology, 8 Center Drive, Rm 1A03, Bethesda, MD 20892-0851. Instrument: Electron Microscope. Manufacturer: FEI Co., the Netherlands. Intended Use: This instrument will be used to examine purified proteins, including the protein dynamin, using negative stain nad cryo-electron microscopy methods. Justification for Duty-Free Entry: There are no domestic manufactures of this instrument. Application accepted by Commissioner of Customs: May 20, 2010.

Dated: June 10, 2010.
Christopher Cassel,
Director, IA Subsidies Enforcement Office.

[FR Doc. 2010-14542 Filed 6-15-10; 8:45 am]

BILLING CODE 3510-DS-S